DEPARTMENT OF DEFENSE

Department of the Army

Privacy Act of 1974; System of Records

AGENCY: Department of the Army, DoD.

ACTION: Notice to alter a system of records.

SUMMARY: The Department of the Army is altering a system of records notice in its existing inventory of record systems subject to the Privacy Act of 1974, (5 U.S.C. 552a), as amended.

The alteration consists of adding a new category of individuals covered, a new category of records, and a new purpose for the information being collected on the Vietnam War Era Service Survey Questionnaire.

DATES: This proposed action will be effective without further notice on July 12, 2002 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on May 14, 2002, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 6, 2002.
Patricia L. Toppings,
Alternate OSD Federal Register Liaison Officer, Department of Defense.

A0870-5 DAMH

System name:

Army History Files (February 22, 1993, 58 FR 10002).

Changes:

* * * * *

Categories of individuals covered by the system:

Add to entry “; and individuals who respond to the Army’s Vietnam War Era Service Survey Questionnaire.”

Categories of records in the system:

Add to entry “Questionnaires and associated historical items received by the U.S. Army Military History Institute under its Veteran Survey Program. Associated historical items may include, but not limited to, audio tapes, books, camp/unit newspapers, diaries, documents, films, memoirs, and artifacts.”

Authority for maintenance of the system:

Delete and replace with “10 U.S.C. 3013, Secretary of the Army; Army Regulation 870-5, Military History: Responsibilities, Policies and Procedures; and 16 U.S.C. 470, National Historic Preservation Act.”

Purpose(s):

Add a new paragraph “Vietnam War Era Service Survey Questionnaires will be used to document recollections and opinions of veterans for historical studies of the U.S. Army.”

* * * * *

A0870-5 DAMH

System name:

Army History Files.

System location:

U.S. Army Center of Military History, Headquarters, Department of the Army, Washington, DC 20310-0200.

Decentralized segments exist at historical offices at Headquarters, Department of the Army and field operating agencies, major commands, and the U.S. Army Military Historical Research Collection, Carlisle Barracks, PA 17013-5000; U.S. Army Center of Military History, 103 3rd Street, Fort McNair Washington, DC 20318-5058; U.S. Army Military History Institute, 22 Ashburn Drive, Carlisle, PA 17013-5008. Official mailing addresses are published as an appendix to the Army’s compilation of systems of records notices.

Categories of individuals covered by the system:

Military and civilian personnel associated with the Army; individuals who offer historically significant items or gifts of money to the Army Museum System; and individuals who respond to the Army's Vietnam War Era Service Survey Questionnaire.

Categories of records in the system:

Biographical resumes and personal working files of U.S. Army personnel; personal papers donated by individuals for historical research; photographs of Army personages; requests for historical documents regarding U.S. Army activities and responses thereto; copy of donor's proffer of gift agreement and correspondence with donor regarding status and/or location of donation(s).

Questionnaires and associated historical items received by the U.S. Army Military History Institute under its Veteran Survey Program. Associated historical items may include, but not limited to, audio tapes, books, camp/unit newspapers, diaries, documents, films, memoirs, and artifacts.

Authority for maintenance of the system:

10 U.S.C. 3013, Secretary of the Army; Army Regulation 870-5, Military History: Responsibilities, Policies and Procedures; and 16 U.S.C. 470, National Historic Preservation Act.

Purpose(s):

To provide a record of donations and contributions of historical property to U.S. Army Museums and historical holdings; to enable Army museums and historical holdings to provide upon request by the donor or donor's heirs, information concerning the status/location of his/her donation; to enable the Army to establish title to the property.

Vietnam War Era Service Survey Questionnaires will be used to document recollections and opinions of veterans for historical studies of the U.S. Army.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information from this system may be disclosed to a municipal corporation, a soldier's monument association, a State museum, an incorporated museum or exhibition operated and maintained for educational purposes only, a post of the Veterans of Foreign Wars or the American Legion, or other Federal museums upon donation or transfer of the historical property to one of those organizations.

The DoD ‘Blanket Routine Uses’ set forth at the beginning of the Army's compilation of systems of records notices also apply to this system.

Policies and practices for storing, retrieving, accessing, retaining, and disposing of records in the system:

Storage:

Paper records in file folders, photographs, and on electronic media. Artifacts will be stored in a secure area.

Retrievability:

By individual's name.

Safeguards:

Records are maintained in secured areas accessible only to persons having need therefore in the performance of official duties.

Retention and disposal:

Permanent. Some historical material and photographs are retired to the Washington National Records Center when no longer needed; other such material is transferred to the Military History Research Collection at Carlisle Barracks, PA for preservation. Inquiries about historical events or persons, and responses thereto, are destroyed when no longer needed.

System manager(s) and address:

Chief, U.S. Army Center of Military History, 103 3rd Street, Fort McNair, Washington, DC 20318-5058.

Assistant Director, Historical and Educational Services Division, U.S. Army Military History Institute, 22 Ashburn Drive, Carlisle Barracks, PA 17013-5000.

Notification procedure:

Individuals seeking to determine whether information about themselves is contained in this system should address written inquiries to the U.S. Army Center of Military History, 103 3rd Street, Fort McNair, Washington, DC 20318-5058.

Individual should provide their full name, address and signature.

Record access procedures:

Individuals seeking access to information about themselves contained in this system should address written inquiries to the U.S. Army Center of Military History, 103 3rd Street, Fort McNair Washington, DC 20318-5058.

Individual should provide their full name, address and signature.

Contesting record procedures:

The Army's rules for accessing records, and for contesting contents and appealing initial agency determinations are contained in Army Regulation 340-21; 32 CFR part 505; or may be obtained from the system manager.

Record source categories:

From the individual, his/her Army record, official Army documents, public records.

Exemptions claimed for the system:

None.

[FR Doc. 02-14709 Filed 6-11-02; 8:45 am]

BILLING CODE 5001-08-P